NATIONAL AERONAUTICS AND SPACE ADMINSTRATION

[Notice (05-028)]

NASA Earth Science and Applications From Space Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Earth Science and Applications from Space Strategic Roadmap Committee.

DATES: Wednesday, March 16, 2005, 8:30 a.m. to 5 p.m., Thursday, March 17, 2005, 8:30 a.m. to 5 p.m. eastern standard time.

ADDRESSES: Inn and Conference Center, University of Maryland, 3501 University Boulevard East, Adelphi, Maryland 20783.

FOR FURTHER INFORMATION CONTACT: Mr. Gordon Johnston, 202-358-4685.

SUPPLEMENTARY INFORMATION: The meeting will be open to the public up to the seating capacity of the meeting room. Attendees will be requested to sign a register.

The agenda for the meeting is as follows:

—Identification of joint interests with Sun-Solar System Connection Roadmap effort.

—Subcommittee reports (Explorations, Continuous Awareness, and Maintaining Perspective).

—Discussion of stages and pathways framework.

—Discussion of NASA activities mapped to objectives/stages/pathway framework.

—Discussion of key program milestones, options, and decision points.

—Subcommittee assignments for development of draft roadmap document.

It is imperative that the meeting be held on these dates to accommodate the scheduling priorities of the key participants.

Dated: February 11, 2005.
P. Diane Rausch,
Advisory Committee Management Officer, National Aeronautics and Space Administration.

[FR Doc. 05-3094 Filed 2-17-05; 8:45 am]

BILLING CODE 7510-13-P